DEPARTMENT OF ENERGY

Federal Energy Regulatory Commission

Combined Notice of Filings

Take notice that the Commission has received the following Natural Gas Pipeline Rate and Refund Report filings:

Filings Instituting Proceedings

Docket Numbers:CP22-5-000.

Applicants: Destin Pipeline.

Description: Joint Abbreviated Application of Destin Pipeline Company, L.L.C., for a Certificate of Public Convenience and Necessity and Authorization to reacquire capacity under CP22-5. Aplication/Petition/Request | Abandonment of Service or Facility, Application/Petition/Request Certificate of Public Convenience and Necessity Public.

Filed Date: 10/12/2021.

Accession Number: 20211012-5187.

Comment Date: 5 p.m. ET 11/2/21.

Docket Numbers: CP22-7-000.

Applicants: Southern Natural Gas Company.

Description: Application for Authorization of Abandonment for Rate Schedule X-54 of Southern Natural Gas Company, L.L.C. under CP22-7. Application/Petition/Request | Abandonment of Service or Facility Public.

Filed Date: 10/12/21.

Accession Number: 20211012-5650.

Comment Date: 5 p.m. ET 11/2/21.

Docket Numbers: PR21-53-002.

Applicants: Moss Bluff Hub, LLC.

Description: Submits tariff filing per 284.123(b),(e)/: MBH Amendment to PR21-53-000—FERC Housekeeping Items to be effective 10/13/2021.

Filed Date: 10/13/21.

Accession Number: 20211013-5046.

Comments/Protests Due: 5 p.m. ET 10/27/21.

Docket Numbers: RP22-42-000.

Applicants: NEXUS Gas Transmission, LLC.

Description: Compliance filing: Cost & Revenue Study for NEXUS in Compliance with CP16-22-000 to be effective N/A.

Filed Date: 10/13/21.

Accession Number: 20211013-5068.

Comment Date: 5 p.m. ET 10/25/21.

Docket Numbers: RP22-43-000.

Applicants: Arlington Storage Company, LLC.

Description: Compliance filing: Informational Filing Concerning MBR Authority.

Filed Date: 10/13/21.

Accession Number: 20211013-5161.

Comment Date: 5 p.m. ET 10/25/21.

Docket Numbers: RP22-44-000.

Applicants: Stagecoach Pipeline & Storage Company LLC.

Description: Compliance filing: Informational Filing Concerning. MBR Authority.

Filed Date: 10/13/21.

Accession Number: 20211013-5162.

Comment Date: 5 p.m. ET 10/25/21.

Docket Numbers: RP22-45-000.

Applicants: Double E Pipeline, LLC.

Description: § 4(d) Rate Filing: Double E Pipeline, LLC—Tariff Cleanup Filing to be effective 11/15/2021.

Filed Date: 10/13/21.

Accession Number: 20211013-5194.

Comment Date: 5 p.m. ET 10/25/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 14, 2021.
Kimberly D. Bose,
Secretary.

[FR Doc. 2021-22838 Filed 10-19-21; 8:45 am]

BILLING CODE 6717-01-P